DEPARTMENT OF THE TREASURY

Submission for OMB Review; Comment Request

March 25, 2013.

The Department of the Treasury will submit the following information collection requests to the Office of Management and Budget (OMB) for review and clearance in accordance with the Paperwork Reduction Act of 1995, Public Law 104-13, on or after the date of publication of this notice.

DATES: Comments should be received on or before April 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0028.

Type of Review: Extension without change of a currently approved collection.

Title: Employer's Annual Federal Unemployment (FUTA) Tax Return (Form 940); Planilla Para La Declaracion Anual Del Patrono-La Contribucion Federal Para El Desempleo (FUTA) (Form 940-PR).

Form: 940; Schedule A (Form 940); Schedule R (Form 940); 940-PR; Schedule (Form 940-PR).

Abstract: IRC section 3301 imposes a tax on employees based on the first $7,000 of taxable annual wages paid to each employee. IRS uses the information reported on Forms 940 and 940-PR (Puerto Rico) to ensure that employers have reported and figured the correct FUTA Wages and tax.

Affected Public: Private Sector: Businesses or other for-profits.

Estimated Total Burden Hours: 105,295,370.

OMB Number: 1545-0130.

Type of Review: Extension without change of a currently approved collection.

Title: U.S. Income Tax Return for an S Corporation.

Form: 1120-S; Schedules M-3, D, K-1, L, M-1, K-1 (Form 1120-S).

Abstract: Form 1120S, Schedule D (Form 1120S), Schedule K-1 (Form 1120S), and Schedule M-3 (Form 1120S) are used by an S corporation to figure its tax liability, and income and other tax-related information to pass through to its shareholders. Schedule K-1 is used to report to shareholders their share of the corporation's income, deductions, credits, etc. IRS uses the information to determine the correct tax for the S corporation and its shareholders.

Affected Public: Private Sector: Businesses or other for-profits.

Estimated Total Burden Hours: 420,945,980.

OMB Number: 1545-0135.

Type of Review: Extension without change of a currently approved collection.

Title: Extension of Time for Payment of Taxes by a Corporation Expecting a Net Operating Loss Carryback.

Form: 1138.

Abstract: Form 1138 is filed by corporations to request an extension of time to pay their income taxes, including estimated taxes. Corporations may only file for an extension when they expect a net operating loss carryback in the tax year and want to delay the payment of taxes from a prior tax year.

Affected Public: Private Sector: Businesses or other for-profits.

Estimated Total Burden Hours: 9,800.

OMB Number: 1545-0212.

Type of Review: Revision of a currently approved collection.

Title: Application for Extension of Time to File Certain Employee Plan Returns.

Form: 5558.

Abstract: This form is used by employers to request an extension of time to file the employee plan annual information return/report (Form 5500 series) or employee plan excise tax return (Form 5330). The data supplied on Form 5558 is used to determine if such extension of time is warranted.

Affected Public: Private Sector: Businesses or other for-profits.

Estimated Total Burden Hours: 231,693.

OMB Number: 1545-0231.

Type of Review: Revision of a currently approved collection.

Title: Credit for Alcohol Used as Fuel.

Form: 6478.

Abstract: IRC section 38(b)(3) allows a nonrefundable income tax credit for businesses that sell or use alcohol. Small ethanol producers also receive a nonrefundable credit for production of qualified ethanol. Form 6478 is used to figure the credits.

Affected Public: Private Sector: Businesses or other for-profits.

Estimated Total Burden Hours: 231,693.

OMB Number: 1545-1696.

Type of Review: Extension without change of a currently approved collection.

Title: Political Organization Report of Contributions and Expenditures.

Form: 8872.

Abstract: Internal Revenue Code section 527(j) requires certain political organizations to report certain contributions received and expenditures made after July 1, 2000. Every section 527 political organization that accepts a contribution or makes an expenditure for an exempt function during the calendar year must file Form 8872, except for: A political organization that is not required to file Form 8871, or a state or local committee of a political party or political committee of a state or local candidate.

Affected Public: Private Sector: Not for-profits institutions.

Estimated Total Burden Hours: 431,200.

OMB Number: 1545-1707.

Type of Review: Extension without change of a currently approved collection.

Title: TD 8957 Final—Estate Tax Return; Form 706, Extension to File.

Abstract: This collection involves regulations relating to the filing of an application for an automatic 6-month extension of time to file an estate tax return (Form 706). The regulations provide guidance to executors of decedents' estates on how to properly file the application for the automatic extension.

Affected Public: Individuals or Households.

Estimated Total Burden Hours: 1.

OMB Number: 1545-1711.

Type of Review: Extension without change of a currently approved collection.

Title: REG-116050-99 (final) Stock Transfer Rules: Carryover of Earnings and Taxes.

Abstract: This document contains final regulations addressing the carry over of certain attributes, such as earnings and profits and foreign income tax accounts, when two corporations combine in a corporate reorganization or liquidation that is described in both section 367(b) and section 381 of the Internal Revenue Code.

Affected Public: Private Sector: Businesses or other for-profits.

Estimated Total Burden Hours: 1,800.

OMB Number: 1545-2020.

Type of Review: Extension without change of a currently approved collection.

Title: TD 9338—Information Returns Required with Respect to Certain Foreign Corporations and Certain Foreign-Owned Domestic Corporations.

Abstract: This document contains final and temporary regulations that provide guidance under section 6038 and 6038A of the Internal Revenue Code. These regulations clarify the information required to be furnished regarding certain related party transactions of certain foreign corporations and certain foreign-owned domestic corporations. Specifically, in addition to the types of transactions listed in Sec. 1.6038-2(f)(11) taxpayers are required to report the sales of tangible property other than stock in trade on Form 5471.

Affected Public: Private Sector: Businesses or other for-profits.

Estimated Total Burden Hours: 1,250.

OMB Number: 1545-2025.

Type of Review: Extension without change of a currently approved collection.

Title: Clean Renewable Energy Bond Credit and Gulf Bond Credit.

Form: 8912.

Abstract: Form 8912, Clean Renewable Energy Bond Credit and Gulf Bond Credit, was developed to carry out the provisions of new Internal Revenue Code sections 54 and 1400N(l). The form provides a means for the taxpayer to compute the clean renewable energy bond credit and the Gulf bond credit.

Affected Public: Private Sector: Businesses or other for-profits.

Estimated Total Burden Hours: 5,555.

OMB Number: 1545-2151.

Type of Review: Extension without change of a currently approved collection.

Title: Notice 2009-72—Qualifying Advanced Energy Project Credit.

Abstract: This notice establishes the qualifying advanced energy project program (“advanced energy program”) under § 48C(d) of the Internal Revenue Code and announces an initial allocation round of the qualifying advanced energy project credit (“advanced energy credit”) to qualifying advanced energy projects under the advanced energy program. A qualifying advanced energy project re-equips, expands, or establishes a manufacturing facility for the production of certain energy related property. A taxpayer must submit, for each qualifying advanced energy project: (1) An application for certification by the DOE (“application for DOE certification”), and (2) an application for certification under § 48C(d)(2) by the Service (“application for § 48C certification”). Both applications may be submitted only during the 2-year period beginning on August 14, 2009. Certifications will be issued and credits will be allocated to projects in annual allocation rounds. The initial allocation round was conducted in 2009-10, and If necessary, additional allocation round in 2010-11.

Affected Public: Private Sector: Businesses or other for-profits.

Estimated Total Burden Hours: 110,000.

OMB Number: 1545-2152.

Type of Review: Extension without change of a currently approved collection.

Title: The Health Coverage Tax Credit (HCTC) Reimbursement Request Form.

Form: 14095.

Abstract: This form will be used by HCTC participants to request reimbursement for health plan premiums paid prior to the commencement of advance payments.

Affected Public: Individual or Households.

Estimated Total Burden Hours: 2,039.

OMB Number: 1545-2168.

Type of Review: Extension without change of a currently approved collection.

Title: Tax Return Preparer Complaint.

Form: 14157.

Abstract: This form will be used by taxpayers to report allegations of misconduct by tax return preparers. The form was created specifically for tax return preparer complaints and includes items necessary for the IRS to effectively evaluate the complaint and route to the appropriate function.

Affected Public: Private Sector: Businesses or other for-profits.

Estimated Total Burden Hours: 1,500.

OMB Number: 1545-2235.

Type of Review: Extension without change of a currently approved collection.

Title: Reimbursable Agreement-Non-Federal Entities.

Form: 14417.

Abstract: Information collected with this form will be used by the IRS to enter into cost reimbursable agreements with state, local, foreign government, and commercial entities. The authority to perform services on a cost reimbursable basis is contained in Section 6103(p) of the Internal Revenue Code. Performance of services is authorized when consistent with the basic public obligations of the IRS.

Affected Public: State, Local, and Tribal Governments.

Estimated Total Burden Hours: 150.

Dawn D. Wolfgang,
Treasury PRA Clearance Officer.

[FR Doc. 2013-07169 Filed 3-27-13; 8:45 am]

BILLING CODE 4830-01-P